DEPARTMENT OF ENERGY

Federal Energy Regulatory Commission

[Docket No. RP03-625-001

Chandeleur Pipe Line Company; Notice of Motion to Place Tariff Sheets into Effect

April 2, 2004.

Take notice that on March 26, 2004 Chandeleur Pipe Line Company (Chandeleur), pursuant to 154.206 of the Commission's regulations, and the Commission's order issued October 31, 2003, and the terms of the settlement agreement filed with the Commission in the captioned docket on March 15, 2004, tendered for filing as part of its FERC Gas Tariff, Second Revised Volume No. 1, 2nd Revised Fourteenth Rev. Sheet No. 5, to become effective April 1, 2004.

Chandeleur states that the purpose of the filing is to place into effect on April 1, 2004, the end of the suspension period in this proceeding, the rates which reflect the agreement of the parties in a settlement filed with the Commission on March 15, 2004. Chandeleur states that, should the Commission fail to approve the lower settlement rates, Chandeleur reserves the right to place the rates on Substitute Fourteenth Revised Sheet No. 5 into effect as such were accepted and suspended by Commission Orders dated October 31, 2004, and December 29, 2003.

Chandeleur notes that copies of the filing have been served upon all participants on the official service list and upon all jurisdictional customers and interested parties.

Any person desiring to protest said filing should file a protest with the Federal Energy Regulatory Commission, 888 First Street, NE., Washington, DC 20426, in accordance with section 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: April 9, 2004.

Magalie R. Salas,
Secretary.

[FR Doc. E4-791 Filed 4-8-04; 8:45 am]

BILLING CODE 6717-01-P